DEPARTMENT OF STATE

[Public Notice: 9304]

In the Matter of the Designation of Rustam Aselderov, aka Abu Mukhammad al-Kadar, aka Abu Mukhammad Kadarsky, aka Abu Mukhammad Kadarskiy, aka Abu Mohammad al-Qadari, aka Abu Muhammad al-Kadarskii, aka Rustam Asildarov, aka Rustam Aseldarov as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Rustam Aselderov, also known as Abu Mukhammad al-Kadar, also known as Abu Mukhammad Kadarsky, also known as Abu Mukhammad Kadarskiy, also known as Abu Mohammad al-Qadari, also known as Abu Muhammad al-Kadarskii, also known as Rustam Asildarov, also known as Rustam Aseldarov, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: September 22, 2015.
John F. Kerry,
Secretary of State.

[FR Doc. 2015-25043 Filed 9-30-15; 8:45 am]

BILLING CODE 4710-AD-P